DEPARTMENT OF THE TREASURY

Office of Foreign Assets Control

Sanctions Actions Pursuant to Executive Order 13304

AGENCY: Office of Foreign Assets Control, Treasury.

ACTION: Notice.

SUMMARY: The Treasury Department's Office of Foreign Assets Control (OFAC) is updating the identifying information for one person whose property and interests in property are blocked pursuant to the following authorities: Executive Order (E.O.) E.O. 13304.

DATES: OFAC's actions described in this notice were effective on January 18, 2017, as further specified below.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The Specially Designated Nationals and Blocked Persons List and additional information concerning OFAC sanctions programs are available on OFAC's Web site (www.treas.gov/ofac).

Notice of OFAC Actions

On January 18, 2017, the Associate Director of the Office of Global Targeting updated the SDN List for the individual listed below, whose property and interests in property are blocked pursuant to E.O. 13304, “Termination of Emergencies With Respect to Yugoslavia and Modification of Executive Order 13219 of June 26, 2001”:

Individual:

DODIK, Milorad, Republic of Srpska, Bosnia and Herzegovina; DOB 12 Mar 1959; Gender Male (individual) [BALKANS].

-to-

DODIK, Milorad, Republika Srpska, Bosnia and Herzegovina; DOB 12 Mar 1959; Gender Male (individual) [BALKANS].

Dated: January 18, 2017.
Gregory T. Gatjanis,
Associate Director, Office of Global Targeting, Office of Foreign Assets Control.

[FR Doc. 2017-01683 Filed 1-24-17; 8:45 am]

BILLING CODE 4810-AL-P